DEPARTMENT OF DEFENSE

Department of the Army; Corps of Engineers

Intent To Prepare a Draft Environmental Impact Statement for the Mid-Chesapeake Bay Island, MD, Environmental Restoration Feasibility Study

AGENCY: Department of the Army, U.S. Army Corps of Engineers, DoD.

ACTION: Notice of intent.

SUMMARY: The Baltimore District, U.S. Army Corps of Engineers (Corps) in partnership with the State of Maryland Department of Transportation, Maryland Port Administration has initiated an environmental restoration feasibility study for the restoration of island habitat in the Mid-Chesapeake Bay region. The study focuses on restoring hundreds of acres of aquatic and wildlife island habitat in the Mid-Chesapeake Bay region through the beneficial use of dredged materials from the Port of Baltimore channel system. As part of this study and in accordance with the National Environmental Policy Act (NEPA) of 1969, an Environmental Impact Statement (EIS) will be prepared to document the plan formulation process and recommendations of this study.

FOR FURTHER INFORMATION CONTACT: Questions or information about the proposed action and draft EIS can be addressed to Ms. Michele (Mimi) Bistany, U.S. Army Corps of Engineers, ATTN: CENAB-PL, 10 South Howard Street, P.O. Box 1715, Baltimore, MD 21203-1715, telephone 410-962-4934; e-mail address: michele.a.bistany@usace.army.mil.

SUPPLEMENTARY INFORMATION: The Mid-Chesapeake Bay study area is defined by the confluence of the Chester River south to the confluence of the Potomac River with the Chesapeake Bay, Maryland.

Land subsidence, rising sea level, and wave action have caused valuable island habitats to be lost through erosion throughout the Chesapeake Bay. Through the beneficial use of dredged material, a restored island can be constructed to replace hundreds of acres of wetland and upland habitat. Therefore, the goal for this feasibility study is to restore valuable aquatic and terrestrial resting, foraging, and nursery habitat that has been lost in the Chesapeake Bay for many migratory birds, fish, and wildlife species through the beneficial use of dredged material. This habitat will afford improved productivity to the surrounding area, while providing an environmentally sound method for the use of dredged material removed from Bay channels.

Corps feasibility studies are conducted using a six-stage planning approach that incorporates the NEPA process: (1) Identify problems, opportunities, goals, and objectives; (2) Inventory baseline conditions; (3) Formulate alternatives; (4) Evaluate effects of the alternatives; (5) Compare alternatives; and (6) Select a recommended plan or set of alternative plans that are environmentally, economically, and engineering sound.

The project delivery team is actively seeking public opinion, participation, and advice to be incorporated into the planning process and the selection of an island for restoration. At this time, the islands that are under consideration within the Mid-Chesapeake Bay region include Barren, Bloodsworth, James, Holland, Lower Eastern Neck, Parson's and Sharp's islands. The team is open to any additional islands for consideration in the Mid-Bay region. As part of the initial phase of the study, an objective screening criteria will be developed based on information obtained for the State of Maryland's Dredged Material Management Program, public and agency input, available data, and best professional judgment. Following the Corps and NEPA processes, once the island is selected for restoration, a detailed analysis of the current existing conditions will be undertaken; alternative restoration plans will be developed, analyzed and compared; the impacts of those plans will be analyzed; and a recommended plan will be selected.

To solicit public input into the study and into the island selection, up to three public scoping meetings are planned for the late January/early February 2003 timeframe. A newsletter broadcasting the dates, times, and locations will be sent to agencies, groups and individuals on the study's mailing list once the meetings have been scheduled. To verify your inclusion, or to be added in the mailing list, please contact the study team leader, Ms. Michele Bistany (see FOR FURTHER INFORMATION CONTACT).

The study will be conducted in compliance with Section 404 and Section 401 of the Clean Water Act, Section 7 of the Endangered Species Act, the Clean Air Act, the U.S. Fish and Wildlife Coordination Act, Section 106 of the National Historic Preservation Act, Prime and Unique Farmlands, the Magnuson-Stevens Fishery Conservation and Management Act, and National Pollutant Discharge Elimination System Act. All appropriate documentation (i.e., Section 7, Section 106 coordination letters, and public and agency comments) will be obtained and included as part of the EIS.

As part of the EIS process, recommendations will be based on an evaluation of the probable impact of the proposed activity on the public interest. The decision will reflect the national concern for the protection and utilization of important resources. The benefit, which may reasonably be expected to accrue from the proposal, will be balanced against its reasonably foreseeable detriments. All factors that may be relevant to the proposal will be considered, among these are wetlands; fish and wildlife resources; cultural resources; land use; water and air quality; hazardous, toxic, and radioactive substances; threatened and endangered species; regional geology; aesthetics; environmental justice; cumulative impacts; and the general needs and welfare of the public.

The draft EIS for the Mid-Chesapeake Bay Island environmental restoration study is expected for public release in July 2005.

Robert W. Lindner,
Chief, Planning Division.

[FR Doc. 03-1112 Filed 1-16-03; 8:45 am]

BILLING CODE 3710-41-M